DEPARTMENT OF HOMELAND SECURITY

Federal Emergency Management Agency

[Docket ID FEMA-2021-0002; Internal Agency Docket No. FEMA-B-2101]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before April 19, 2021.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2101, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Weld County, Colorado and Incorporated Areas
Project: 19-08-0010S Preliminary Date: September 17, 2020
City of Evans | City Hall, 1100 37th Street, Evans, CO 80620.
City of Fort Lupton | City Hall, 130 South McKinley Avenue, Fort Lupton, CO 80621.
City of Greeley | City Hall, 1000 10th Street, Greeley, CO 80631.
Town of Firestone | Town Hall, 151 Grant Avenue, Firestone, CO 80520.
Town of Frederick | Town Hall, 401 Locust Street, Frederick, CO 80530.
Town of Kersey | Town Hall, 446 1st Street, Kersey, CO 80644.
Town of LaSalle | Town Hall, 128 North 2nd Street, LaSalle, CO 80645.
Town of Mead | Town Hall, 441 3rd Street, Mead, CO 80542.
Town of Milliken | Town Hall, 1101 Broad Street, Milliken, CO 80543.
Town of Platteville | Town Hall, 400 Grand Avenue, Platteville, CO 80651.
Town of Windsor | Town Hall, 301 Walnut Street, Windsor, CO 80550.
Unincorporated Areas of Weld County | Weld County Commissioner's Office, 1150 O Street, Greeley, CO 80631.
Norfolk County, Massachusetts (All Jurisdictions)
Project: 15-01-0633S Preliminary Date: June 19, 2020
City of Quincy | City Hall, 1305 Hancock Street, Quincy, MA 02169.
Town of Avon | Town Hall, 65 East Main Street, Avon, MA 02322.
Town of Bellingham | Municipal Center, 10 Mechanic Street, Bellingham, MA 02019.
Town of Braintree | Town Hall, 1 John F. Kennedy Memorial Drive, Braintree, MA 02184.
Town of Brookline | Town Hall, 333 Washington Street, Brookline, MA 02445.
Town of Canton | Town Hall, 801 Washington Street, Canton, MA 02021.
Town of Cohasset | Town Hall, 41 Highland Avenue, Cohasset, MA 02025.
Town of Dedham | Town Hall, 450 Washington Street, Dedham, MA 02026.
Town of Dover | Town House, 5 Springdale Avenue, Dover, MA 02030.
Town of Foxborough | Town Hall, 40 South Street, Foxborough, MA 02035.
Town of Franklin | Town Hall, 355 East Central Street, Franklin, MA 02038.
Town of Holbrook | Town Hall, 50 North Franklin Street, Holbrook, MA 02343.
Town of Medfield | Town Hall, 459 Main Street, Medfield, MA 02052.
Town of Medway | Town Hall, 155 Village Street, Medway, MA 02053.
Town of Millis | Veterans Memorial Building, 900 Main Street, Millis, MA 02054.
Town of Milton | Town Office Building, 525 Canton Avenue, Milton, MA 02186.
Town of Needham | Town Hall, 1471 Highland Avenue, Needham, MA 02492.
Town of Norfolk | Town Hall, 1 Liberty Lane, Norfolk, MA 02056.
Town of Norwood | Town Hall, 566 Washington Street, Norwood, MA 02062.
Town of Plainville | Town Hall, 190 South Street, Plainville, MA 02762.
Town of Randolph | Town Hall, 41 South Main Street, Randolph, MA 02368.
Town of Sharon | Town Office Building, 90 South Main Street, Sharon, MA 02067.
Town of Stoughton | Town Hall, 10 Pearl Street, Stoughton, MA 02072.
Town of Walpole | Town Hall, 135 School Street, Walpole, MA 02081.
Town of Wellesley | Town Hall, 525 Washington Street, Wellesley, MA 02482.
Town of Westwood | Town Hall, 580 High Street, Westwood, MA 02090.
Town of Weymouth | Town Hall, 75 Middle Street, Weymouth, MA 02189.
Town of Wrentham | Town Hall, 79 South Street, Wrentham, MA 02093.
Plymouth County, Massachusetts (All Jurisdictions)
Project: 15-01-0633S Preliminary Date: June 19, 2020
Town of Abington | Town Hall, 500 Gliniewicz Way, Abington, MA 02351.
Town of Hanover | Town Hall, 550 Hanover Street, Hanover, MA 02339.
Town of Hingham | Town Hall, 210 Central Street, Hingham, MA 02043.
Town of Hull | Town Hall, 253 Atlantic Avenue, Hull, MA 02045.
Town of Norwell | Town Hall, 345 Main Street, Norwell, MA 02061.
Town of Rockland | Town Hall, 242 Union Street, Rockland, MA 02370.
Suffolk County, Massachusetts (All Jurisdictions)
Project: 15-01-0633S Preliminary Date: June 19, 2020
City of Boston | City Hall, 1 City Hall Square, Boston, MA 02201.
City of Chelsea | City Hall, 500 Broadway, Chelsea, MA 02150.
City of Revere | City Hall, 281 Broadway, Revere, MA 02151.
Town of Winthrop | Public Works Building, 100 Kennedy Drive, Winthrop, MA 02152.
Bradford County, Pennsylvania (All Jurisdictions)
Project: 16-03-0615S Preliminary Date: July 1, 2020
Borough of Athens | Municipal Building, 2 South River Street, Athens, PA 18810.
Borough of Sayre | Borough Hall, 110 West Packer Avenue, Sayre, PA 18840.
Borough of South Waverly | Borough Hall, 2523 Pennsylvania Avenue, South Waverly, PA 18840.
Borough of Towanda | Municipal Building, 724 Main Street, Towanda, PA 18848.
Township of Asylum | Asylum Township Building, 19981 Route 187, Towanda, PA 18848.
Township of Athens | Athens Township Municipal Building, 45 Herrick Avenue, Sayre, PA 18840.
Township of Litchfield | Litchfield Township Building, 1391 Hill Road, Sayre, PA 18840.
Township of North Towanda | North Towanda Township Office, 292 Old Mills Road, Towanda, PA 18848.
Township of Sheshequin | Sheshequin Township Office, 1774 North Middle Road, Ulster, PA 18850.
Township of Towanda | Township Office, 44 Chapel Street, Towanda, PA 18848.
Township of Ulster | Municipal Building, 23849 Route 220, Ulster, PA 18850.
Township of Wysox | Township Building, 103 Lake Road, Wysox, PA 18854.
Wyoming County, Pennsylvania (All Jurisdictions)
Project: 16-03-0615S Preliminary Date: July 1, 2020
Borough of Laceyville | Municipal Building, 342 Church Street, Laceyville, PA 18623.
Borough of Meshoppen | Municipal Building, 154 Oak Street, Meshoppen, PA 18630.
Borough of Tunkhannock | Municipal Building, 126 Warren Street, Tunkhannock, PA 18657.
Township of Braintrim | Braintrim Municipal Building, 220 Main Street, Laceyville, PA 18623.
Township of Eaton | Eaton Municipal Building, 1331 Hunter Highway, Tunkhannock, PA 18657.
Township of Falls | Municipal Building, 220 Buttermilk Road, Falls, PA 18615.
Township of Mehoopany | Municipal Building, 237 Schoolhouse Road, Mehoopany, PA 18629.
Township of Meshoppen | Municipal Building, 527 Benninger Road, Meshoppen, PA 18630.
Township of Tunkhannock | Municipal Building, 113 Tunkhannock Township Drive, Tunkhannock, PA 18657.
Township of Washington | Washington Municipal Building, 184 Keiserville Road, Tunkhannock, PA 18657.
Township of Windham | Windham Municipal Building, 149 Palen Street, Mehoopany, PA 18629.
Grayson County, Texas and Incorporated Areas
Project: 20-06-0067S Preliminary Date: July 24, 2020
City of Sherman | Engineering Department, 220 West Mulberry Street, Sherman, TX 75090.
Unincorporated Areas of Grayson County | Grayson County Courthouse, 100 West Houston Street, Sherman, TX 75090.
Lancaster County, Virginia and Incorporated Areas
Project: 18-03-0032S Preliminary Date: July 1, 2019
Town of Kilmarnock | Town Hall Office, 1 North Main Street, Kilmarnock, VA 22482.
Unincorporated Areas of Lancaster County | Lancaster County Administration Building, Department of Planning and Land Use, 8311 Mary Ball Road, Lancaster, VA 22503.
Nottoway County, Virginia and Incorporated Areas
Project: 19-03-0017S Preliminary Date: August 28, 2020
Town of Blackstone | Town Hall, 100 West Elm Street, Blackstone, VA 23824.
Town of Burkeville | Town Hall, 224 2nd Street Northwest, Burkeville, VA 23922.
Town of Crewe | Town Office, 125 East Carolina Avenue, Crewe, VA 23930.
Unincorporated Areas of Nottoway County | Nottoway County Administrator's Office, 344 West Courthouse Road, Nottoway, VA 23955.
Richmond County, Virginia and Incorporated Areas
Project: 18-03-0034S Preliminary Date: July 19, 2019
Town of Warsaw | Robert W. Lowery Municipal Building, 78 Belle Ville Lane, Warsaw, VA 22572.
Unincorporated Areas of Richmond County | Richmond County Administrator's Office, 101 Court Circle, Warsaw, VA 22572.
Westmoreland County, Virginia and Incorporated Areas
Project: 19-03-0001S Preliminary Date: July 1, 2019
Town of Montross | Town Hall, 15869 Kings Highway, Montross, VA 22520.
Unincorporated Areas of Westmoreland County | Westmoreland County George D. English, Sr. Memorial Building, 111 Polk Street, Montross, VA 22520.
Goshen County, Wyoming and Incorporated Areas
Project: 15-08-0154S Preliminary Date: June 30, 2020
City of Torrington | Lincoln Community Complex, 436 East 22nd Avenue, Torrington, WY 82240.
Town of Fort Laramie | Town Hall, 102 West Otis Street, Fort Laramie, WY 82212.
Town of LaGrange | Town Hall, 200 C Street, LaGrange, WY 82221.
Town of Lingle | Town Hall, 220 Main Street, Lingle, WY 82223.
Town of Yoder | Town Hall, 321 Main Street, Yoder, WY 82244.
Unincorporated Areas of Goshen County | Goshen County Courthouse, 2125 East A Street, Room 120, Torrington, WY 82240.

[FR Doc. 2021-01106 Filed 1-15-21; 8:45 am]

BILLING CODE 9110-12-P